DEPARTMENT OF HEALTH AND HUMAN SERVICES

National Institutes of Health

Center for Scientific Review; Amended Notice of Meeting

Notice is hereby given of a change in the meeting of the Center for Scientific Review Special Emphasis Panel, July 11, 2005, 8:30 a.m. to July 12, 2005, 6 p.m., Embassy Suites Hotel, 4300 Military Road, Washington, DC 20015 which was published in the Federal Register on June 22, 2005, 70 FR 36195-36197.

The meeting will be held at the Holiday Inn Chevy Chase, 5520 Wisconsin Avenue, Chevy Chase, MD 20815. The meeting dates and time remain the same. The meeting is closed to the public.

Dated: June 28, 2005.
LaVerne Y. Stringfield,
Director, Office of Federal Advisory Committee Policy.

[FR Doc. 05-13449 Filed 7-7-05; 8:45 am]

BILLING CODE 4140-01-M